NATIONAL LABOR RELATIONS BOARD

29 CFR Part 104

RIN 3142-AA07

Notification of Employee Rights Under the National Labor Relations Act

AGENCY: National Labor Relations Board.

ACTION: Final rule; Court-ordered delay of effective date.

SUMMARY: On August 30, 2011, the National Labor Relations Board (Board) published a final rule requiring employers subject to the National Labor Relations Act (NLRA) to post notices informing their employees of their rights as employees under the NLRA. (76 FR 54006, August 30, 2011.) On October 12, 2011, the Board amended that rule to delay the effective date from November 14, 2011, to January 31, 2012. (76 FR 63188, October 12, 2011.) The Board later further amended the rule to delay the effective date from January 31, 2012, to April 30, 2012. (76 FR 82133 December 30, 2011.) On April 17, 2012, in light of conflicting decisions at the district court level, the D.C. Circuit entered an injunction pending appeal further delaying the effective date of the rule. National Association of Manufacturers v. NLRB (12-5068 D.C. Cir. April 17, 2012) citing Chamber of Commerce v. NLRB (11-02516 D.S.C. April 13, 2012) (finding Board lacked authority to issue rule). The purpose of this notice is to announce that delay in the effective date of the rule.

DATES: The effective date of the final rule published at 76 FR 54006, August 30, 2011, and amended at 76 FR 63188, October 12, 2011, and at 76 FR 82133, December 30, 2011, is by judicial action delayed indefinitely from April 30, 2012, pending resolution of the legal issues raised by the conflicting court decisions.

FOR FURTHER INFORMATION CONTACT: Lester A. Heltzer, Executive Secretary, National Labor Relations Board, 1099 14th Street NW., Washington, DC 20570, (202) 273-1067 (this is not a toll-free number), 1-(866) 315-6572 (TTY/TDD).

SUPPLEMENTARY INFORMATION: On August 30, 2011, the National Labor Relations Board published a final rule requiring employers subject to the National Labor Relations Act (NLRA) to post notices informing their employees of their rights as employees under the NLRA. The Board later changed the effective date of the rule from November 14, 2011, to January 31, 2012, and then to April 30, 2012. On April 13, 2012, the District Court for South Carolina held, contrary to the District Court for the District of Columbia, that the Board lacked authority to issue the rule. On April 17, 2012, the D.C. Circuit temporarily enjoined the rule in light of conflicting decisions at the district court level. Accordingly, the effective date of the rule is delayed until further notice.

Signed in Washington, DC, on April 26, 2012.
Lester A. Heltzer,
Executive Secretary.

[FR Doc. 2012-10520 Filed 4-27-12; 4:15 pm]

BILLING CODE 7545-01-P